DEPARTMENT OF THE INTERIOR

Bureau of Indian Affairs

[189A2100DD/AAKC001030/A0A501010.999900 253G]

Indian Gaming; Approval of an Amendment to a Tribal-State Class III Gaming Compact in the State of Washington

AGENCY: Bureau of Indian Affairs, Interior.

ACTION: Notice.

SUMMARY: The Jamestown S'Klallam Tribe and State of Washington negotiated the Sixth Amendment to the Tribal State Compact for Class III Gaming between the Jamestown S'Klallam Tribe and the State of Washington governing Class III gaming; this notice announces approval of the amended Compact.

DATES: The compact takes effect on October 20, 2017.

FOR FURTHER INFORMATION CONTACT: Ms. Paula L. Hart, Director, Office of Indian Gaming, Office of the Assistant Secretary—Indian Affairs, Washington, DC 20240, (202) 219-4066.

SUPPLEMENTARY INFORMATION: Section 11 of the Indian Gaming Regulatory Act (IGRA) requires the Secretary of the Interior to publish in the Federal Register notice of approved Tribal-State compacts that are for the purpose of engaging in Class III gaming activities on Indian lands. See Public Law 100-497, 25 U.S.C. 2701 et seq. All Tribal-State Class III compacts, including amendments, are subject to review and approval by the Secretary under 25 CFR 293.4. The Sixth Amendment to the Tribal State Compact for the Class III Gaming between the Jamestown S'Klallam Tribe and the State of Washington supersedes and replaces the previous compact, revises the definition section, allows for an additional gaming facility, increases the number of gaming stations, and provides for Satellite (Off-Track) wagering on Horse Races. Licensing and registration requirements have been updated. The Tribe is required to establish a problem-gambling education and awareness program and to provide information about education, awareness, and treatment program services in a community and contributions report. The Sixth Amendment to the Tribal State Compact for the Class III Gaming between the Jamestown S'Klallam Tribe and the State of Washington is approved. See 25 U.S.C. 2710(d)(8)(A).

Dated: September 22, 2017.
Michael S. Black,
Acting Assistant Secretary—Indian Affairs.

[FR Doc. 2017-22852 Filed 10-19-17; 8:45 am]

BILLING CODE 4337-15-P